DEPARTMENT OF AGRICULTURE

Office of the Under Secretary, Research, Education, and Economics

Notice of the Advisory Committee on Agricultural Biotechnology Meeting

AGENCY: Agricultural Research Service, USDA.

ACTION: Notice of meeting.

SUMMARY: In accordance with the Federal Advisory Committee Act, 5 U.S.C. App., the United States Department of Agriculture announces a meeting of the Advisory Committee on Agricultural Biotechnology (ACAB).

SUPPLEMENTARY INFORMATION: The ACAB has scheduled its second meeting on July 26-27, 2000. The topics to be discussed will include: (1) finalization of ACAB Bylaws and Operating Procedures; (2) update on recent relevant issues, projects, and activities; (3) potential impacts of the licensing of USDA Control of Gene Expression (CGE) patents; (4) agricultural biotechnology statistics collection and analyses; (5) topics for potential consideration by the National Academy of Sciences' Standing Committee on Biotechnology, Food and Fiber Production, and the Environment; (6) FY 2002 biotechnology budget priorities; and (7) framing of additional issues for future ACAB deliberations.

Background information regarding the work of the ACAB is available on the USDA web site at http://www.usda.gov/agencies/biotech/acab.html. Members of the public who wish to make oral statements should also inform Dr. Schechtman in writing or via E-mail at the indicated addresses at least three business days before the meeting. On July 26, 2000, if time permits, reasonable provision will be made for oral presentations of no more than five minutes each in duration. Interested individuals may file written comments with the committee before or after the meeting by sending them to Dr. Schecntman at the address below. Written comments may be submitted by regular mail, fax, or e-mail.

DATES: The meeting will be held in the Empire Room in the Omni Shoreham Hotel, 2500 Calvert Street, NW, Washington, DC 20008, on July 26-27, 2000. The meeting is scheduled to run from 8:30 am until 7 pm on July 26 and 8:30 am until 5 pm on July 27. The meeting will be open to the public, but space is limited. If you would like to attend the meetings, you must register by contacting Ms. Cindi White at (202) 690-8647, by fax at (202) 720-3191 or by E-mail at cwhite@ars.usda.gov at least 7 days prior to the meeting. Please provide your name, title, business affiliation, address, telephone, and fax number when you register. If you require a sign language interpreter or other special accommodation due to disability, please indicate those needs at the time of registration.

FOR FURTHER INFORMATION CONTACT: Michael Schechtman, Designated Federal Official, Office of the Deputy Secretary, USDA, 202B Jamie L. Whitten Federal Building, 12th and Independence Avenue, SW, Washington, DC 20250; Telephone (202) 720-3817; Fax (202) 690-4265; E-mail mschechtman@ars.usda.gov.

Floyd P. Horn,
Administrator.

[FR Doc. 00-17939 Filed 7-14-00; 8:45 am]

BILLING CODE 3410-03-P